DEPARTMENT OF ENERGY

Federal Energy Regulatory Commission

[Docket No. IC18-7-000]

Commission Information Collection Activities (FERC-725l); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-725L, Mandatory Reliability Standards for the Bulk-Power System: MOD Reliability Standards.

DATES: Comments on the collection of information are due March 27, 2018.

ADDRESSES: You may submit comments (identified by Docket No. IC18-7-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725L, Mandatory Reliability Standards for the Bulk-Power System: MOD Reliability Standards.

OMB Control No.: 1902-0261.

Type of Request: Three-year extension of the FERC-725L information collection requirements with no changes to the current reporting requirements.

Abstract: MOD Reliability Standards ensure that generators remain in operation during specified voltage and frequency excursions, properly coordinate protective relays and generator voltage regulator controls, and ensure that generator models accurately reflect the generator's capabilities and equipment performance.

Reliability Standards MOD-025-2, MOD-026-1, and MOD-027-1 “address generator verifications needed to support Bulk-Power System reliability and will ensure that accurate data is verified and made available for planning simulations.” NERC explains that Bulk-Power System reliability benefits from “good quality simulation models of power system equipment,” and that “model validation ensures the proper performance of the control systems and validates the computer models used for stability analysis.” ¹ NERC further states that the proposed Reliability Standards will enhance reliability because the tests performed to obtain model data may reveal latent defects that could cause inappropriate unit response during system disturbances.

¹ NERC Petition for Approval of Five Proposed Reliability Standards MOD-025-2, MOD-026-1, MOD-027-1, PRC-019-1, and PRC-024-1 issued on 5/30/2013.

Reliability Standards MOD-032-1 and MOD-033-2 are designed to replace, consolidate and improve upon” existing MOD standards, in addressing system-level modeling data and validation requirements necessary for developing planning models and the Interconnection-wide cases that are integral to analyzing the reliability of the Bulk-Power System.

Type of Respondents: NERC-registered entities including generator owners, transmission planners, planning authorities, balancing authorities, resource planners, transmission service providers, reliability coordinators, and transmission operators.²

² In subsequent portions of this notice, the following acronyms will be used: PA = Planning Authority, GO = Generator Owner, TP = Transmission Planner, BA = Balancing Authority, RP = Resource Planner, TSP = Transmission Service Provider, RC = Reliability Coordinator, TOP = Transmission Operator.

Estimate of Annual Burden ³: The Commission estimates the annual public reporting burden ⁴ for the information collection as:

³ Burden is defined as the total time, effort, or financial resources expended by persons to generate, maintain, retain, or disclose or provide information to or for a Federal agency. For further explanation of what is included in the information collection burden, reference 5 Code of Federal Regulations 1320.3.

⁴ Each of the five MOD standards in the FERC-725L information collection previously contained “one-time” components to their respondent burden. These one-time burden categories consisted primarily of activities related to establishing industry practices and developing data validation procedures tailored toward these reliability standards and their reporting requirements. None of the one-time burdens apply any longer, so they are being removed from the FERC-725L information collection.

| Number of respondents | Annual number of responses per respondent | Total number of responses | Average burden and cost per response | Total annual burden hours and total annual cost | Cost per respondent ($)
| (1) | (2) | (1) * (2) = (3) | (4) | (3) * (4) = (5) | (5) ÷ (1)
MOD-025-2 (Verification and Data Reporting of Generator Real and Reactive Power Capability and Synchronous Condenser Reactive Power Capability)
Attachment 2 | 933 (GO) | 1 | 933 | 6 hrs.; $448.92 ⁵ | 5,598 hrs.; $418,842 | 448.92
Evidence Retention | 933 (GO) | 1 | 933 | 1 hr.; $32.74 ⁶ | 933 hrs.; $30,546 | 32.74
Total |  |  |  |  | 6,531 hrs.; $449,388 |
MOD-026-1 (Verification of Models and Data for Generator Excitation Control System or Plant Volt/Variance Control Functions)
Instructions for obtaining excitation control system or plant voltage/variance control function model | 185 (TP) | 1 | 185 | 8 hrs.; $598.56 ⁴ | 1,480 hrs.; $110,734 | 598.56
Documentation on generator verification | 466 (GO) | 1 | 466 | 8 hrs.; $598.56 ⁴ | 3,728 hrs.; $278,929 | 598.56
Evidence Retention | 651 (GO and TOP) | 1 | 651 | 1 hr.; $32.74⁵ | 651 hrs.; $21,314 | 32.74
Total |  |  |  |  | 5,859 hrs.; $410,977 |
MOD-027-1 (Verification of Models and Data for Turbine/Governor and Load Control or Active Power/Frequency Control Functions)
Instructions for obtaining excitation control system or plant voltage/variance control function model | 185 (TP) | 1 | 185 | 8 hrs.; $598.56 ⁴ | 1,480 hrs.; $110,734 | 598.56
Documentation on generator verification | 466 (GO) | 1 | 466 | 8 hrs.; $598.56 ⁴ | 3,728 hrs.; $278,929 | 598.56
Evidence Retention | 651 (GO and TP) | 1 | 651 | 1 hr.; $32.74 ² | 651 hrs.; $21,314 | 32.74
Total |  |  |  |  | 5,859 hrs.; $410,977 |
MOD-032-1 (Verification of Models and Data for Turbine/Governor and Load Control or Active Power/Frequency Control Functions)
Data Submittal | 1,197 (BA, GO, PA, RP, TO, TP, and TSP) | 1 | 1,197 | 8 hrs.; $544.96⁷ | 9,576 hrs.; $652,317 | 544.96
Evidence Retention | 1,197 (BA, GO, PA, RP, TO, TP, and TSP) | 1 | 1,197 | 1 hr.; $32.74² | 1,197 hrs.; $39,190 | 32.74
Total |  |  |  |  | 10,773 hrs.; $691,507 |
MOD-033-1 (Steady-State and Dynamics System Model Validation)
Data Submittal | 188 (RC and TOP) | 1 | 188 | 8 hrs.; $544.96 ⁶ | 1,504 hrs.; $102,452 | 544.96
Evidence Retention | 194 (PA, RC, and TOP) | 1 | 194 | 1 hr.; $32.74² | 194 hrs.; $6,352 | 32.74
Total |  |  |  |  | 1,698 hrs.; $108,804 |

The total annual estimated burden and cost for the FERC-725L information collection is 27,544 hours and $2,071,653 respectively.

⁵ This wage figure uses the weighted hourly average wage (plus benefits) for electrical engineers (Occupation Code: 17-2071) and managers (Occupation Code: 11-0000) obtained from the Bureau of Labor Statistics: $74.82/hour. The average used the following calculation: [$68.12/hour + $81.52/hour] ÷ 2 = $74.82/hour. $68.12/hour is the wage for engineers. $81.52 is the wage for manager.

⁶ Uses the hourly average wage (plus benefits) for file clerks obtained from the Bureau of Labor Statistics: $32.74/hour (BLS Occupation Code: 43-4071).

⁷ Uses the hourly average wage (plus benefits) for electrical engineers obtained from the Bureau of Labor Statistics: $68.12/hour (BLS Occupation Code: 17-2071).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 22, 2018.
Kimberly D. Bose,
Secretary.

[FR Doc. 2018-01505 Filed 1-25-18; 8:45 am]

BILLING CODE 6717-01-P